DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Mandatory Guidelines for Federal Workplace Drug Testing Programs (OMB No. 0930-0158)—Revision

SAMHSA will request OMB approval for the Federal Drug Testing Custody and Control Form (CCF) for federal agency and federally regulated drug testing programs which must comply with the HHS Mandatory Guidelines for Federal Workplace Drug Testing Programs using Urine (82 FR 7920) dated January 23, 2017, and OMB approval for information provided by test facilities (laboratories and Instrumented Initial Test Facilities, IITFs) for the National Laboratory Certification Program (NLCP).

The CCF is used by all federal agencies and employers regulated by the Department of Transportation (DOT) and the Nuclear Regulatory Commission (NRC) to document the collection and chain of custody of urine specimens at the collection site, for HHS-certified test facilities to report results, and for Medical Review Officers (MROs) to document and report a verified result. SAMHSA allows the use of the CCF as a paper or electronic form.

The current OMB-approved CCF has a May 31, 2017 expiration date. SAMHSA has resubmitted the CCF with minor content revisions to the form for OMB approval. These revisions are:

• Remove the checkbox, the letters “DOT”, and hash line in front of Specify DOT Agency in Step 1: Completed by collector or employer Representative; Line D: Specify Testing Authority.

• Addition of four new analytes (oxycodone, oxymorphone, hydrocodone, and hydromorphone) in Step 5A: Primary Specimen Report—Completed by Test Facility.

• Removal of the analyte methylenedioxyethylamphetamine (MDEA) in Step 5A: Primary Specimen Report—Completed by Test Facility.

Based upon information from federal agencies and from DOT concerning their regulated industries, the number of respondents has been reduced from a total of 6.1 million in 2013 to 5.4 million, which reduces the total burden hours by 188,766.

Laboratories and IITFs seeking HHS certification under the NLCP must complete and submit the NLCP application form. The NLCP application form has not been revised compared to the previous form.

Prior to an inspection, an HHS-certified laboratory or IITF is required to submit specific information regarding its procedures. Collecting this information prior to an inspection allows the inspectors to thoroughly review and understand the testing procedures before arriving for the onsite inspection. The NLCP information checklist has not been revised compared to the previous form.

The annual total burden estimates for the CCF, the NLCP application, the NLCP information checklist, and the NLCP recordkeeping requirements are shown in the following table.

Form/respondent | Number of respondents | Responses per respondent | Total number of responses | Burden per response (hours) | Annual burden (hours)
Custody and Control Form:
Donor | 5,400,000 | 1 | 5,400,000 | 0.08 | 450,000
Collector | 5,400,000 | 1 | 5,400,000 | 0.07 | 360,000
Laboratory | 5,400,000 | 1 | 5,400,000 | 0.05 | 270,000
IITF | 0 | 0 | 0 | 0 | 0
Medical Review Officer | 5,400,000 | 1 | 5,400,000 | 0.05 | 270,000
NLCP Application Form:
Laboratory | 1 | 1 | 1 | 3 | 3
IITF | 0 | 0 | 0 | 0 | 0
Sections B and C—NLCP Inspection Checklist:
Laboratory | 30 | 1 | 30 | 1 | 30
IITF | 0 | 0 | 0 | 0 | 0
Recordkeeping:
Laboratory | 30 | 1 | 30 | 250 | 7,500
IITF | 0 | 0 | 0 | 0 | 0
Total | 5,400,061 |  | 5,400,061 |  | 1,357,533

Written comments and recommendations concerning the proposed information collection should be sent by May 30, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-08588 Filed 4-27-17; 8:45 am]

BILLING CODE 4162-20-P